DEPARTMENT OF ENERGY

Federal Energy Regulatory Commission

Combined Notice of Filings

Take notice that the Commission has received the following Natural Gas Pipeline Rate and Refund Report filings:

Filings Instituting Proceedings

Docket Numbers: RP13-498-000.

Applicants: Midcontinent Express Pipeline LLC.

Description: Penalty Revenue Crediting Report of Midcontinent Express Pipeline LLC.

Filed Date: 1/31/13.

Accession Number: 20130131-5040.

Comments Due: 5 p.m. ET 2/12/13.

Docket Numbers: RP13-499-000.

Applicants: Kinder Morgan Louisiana Pipeline LLC.

Description: Penalty Revenue Crediting Report of Kinder Morgan Louisiana Pipeline LLC.

Filed Date: 1/31/13.

Accession Number: 20130131-5042.

Comments Due: 5 p.m. ET 2/12/13.

Docket Numbers: RP13-500-000.

Applicants: Northern Natural Gas Company.

Description: 20130131 Negotiated Rate to be effective 2/1/2013.

Filed Date: 1/31/13.

Accession Number: 20130131-5075.

Comments Due: 5 p.m. ET 2/12/13.

Docket Numbers: RP13-501-000.

Applicants: Millennium Pipeline Company, L.L.C.

Description: Annual Operations Transactions Report of Millennium Pipeline Company, L.L.C.

Filed Date: 1/31/13.

Accession Number: 20130131-5086.

Comments Due: 5 p.m. ET 2/12/13.

Docket Numbers: RP13-502-000.

Applicants: Algonquin Gas Transmission, LLC.

Description: NAESB Copyright Waiver to be effective 3/4/2013.

Filed Date: 1/31/13.

Accession Number: 20130131-5103.

Comments Due: 5 p.m. ET 2/12/13.

Docket Numbers: RP13-503-000.

Applicants: Big Sandy Pipeline, LLC.

Description: NAESB Copyright Waiver to be effective 3/4/2013.

Filed Date: 1/31/13.

Accession Number: 20130131-5104.

Comments Due: 5 p.m. ET 2/12/13.

Docket Numbers: RP13-504-000.

Applicants: Bobcat Gas Storage.

Description: NAESB Copyright Waiver to be effective 3/4/2013.

Filed Date: 1/31/13.

Accession Number: 20130131-5105.

Comments Due: 5 p.m. ET 2/12/13.

Docket Numbers: RP13-505-000.

Applicants: East Tennessee Natural Gas, LLC.

Description: NAESB Copyright Waiver to be effective 3/4/2013.

Filed Date: 1/31/13.

Accession Number: 20130131-5106.

Comments Due: 5 p.m. ET 2/12/13.

Docket Numbers: RP13-506-000.

Applicants: Egan Hub Storage, LLC.

Description: NAESB Copyright Waiver to be effective 3/4/2013.

Filed Date: 1/31/13.

Accession Number: 20130131-5121.

Comments Due: 5 p.m. ET 2/12/13.

Docket Numbers: RP13-507-000.

Applicants: Gulfstream Natural Gas System, L.L.C.

Description: NAESB Copyright Waiver to be effective 3/4/2013.

Filed Date: 1/31/13.

Accession Number: 20130131-5128.

Comments Due: 5 p.m. ET 2/12/13.

Docket Numbers: RP13-508-000.

Applicants: Maritimes & Northeast Pipeline, L.L.C.

Description: NAESB Copyright Waiver to be effective 3/4/2013.

Filed Date: 1/31/13.

Accession Number: 20130131-5138.

Comments Due: 5 p.m. ET 2/12/13.

Docket Numbers: RP13-509-000.

Applicants: Iroquois Gas Transmission System, L.P.

Description: 01/31/13 Negotiated Rates—Barclays (RTS)—7055-35 & 38 to be effective 2/1/2013.

Filed Date: 1/31/13.

Accession Number: 20130131-5141.

Comments Due: 5 p.m. ET 2/12/13.

Docket Numbers: RP13-510-000.

Applicants: Ozark Gas Transmission, L.L.C.

Description: NAESB Copyright Waiver to be effective 3/4/2013.

Filed Date: 1/31/13.

Accession Number: 20130131-5144.

Comments Due: 5 p.m. ET 2/12/13.

Docket Numbers: RP13-511-000.

Applicants: Great Lakes Gas Transmission Limited Par.

Description: Great Lakes Gas Transmission Limited Partnership Transporter's Use Report.

Filed Date: 1/31/13.

Accession Number: 20130131-5145.

Comments Due: 5 p.m. ET 2/12/13.

Docket Numbers: RP13-512-000.

Applicants: Saltville Gas Storage Company L.L.C.

Description: NAESB Copyright Waiver to be effective 3/4/2013.

Filed Date: 1/31/13.

Accession Number: 20130131-5151.

Comments Due: 5 p.m. ET 2/12/13.

Docket Numbers: RP13-513-000.

Applicants: Steckman Ridge, LP.

Description: NAESB Copyright Waiver to be effective 3/4/2013.

Filed Date: 1/31/13.

Accession Number: 20130131-5163

Comments Due: 5 p.m. ET 2/12/13.

Docket Numbers: RP13-514-000.

Applicants: Texas Eastern Transmission, LP.

Description: Texas Eastern Transmission, LP submits tariff filing per 154.204: NAESB Copyright Waiver to be effective 3/4/2013.

Filed Date: 1/31/13.

Accession Number: 20130131-5174.

Comments Due: 5 p.m. ET 2/12/13.

Docket Numbers: RP13-515-000.

Applicants: Southeast Supply Header, LLC.

Description: NAESB Copyright Waiver to be effective 3/4/2013.

Filed Date: 1/31/13.

Accession Number: 20130131-5191.

Comments Due: 5 p.m. ET 2/12/13.

Docket Numbers: RP13-516-000.

Applicants: Big Sandy Pipeline, LLC.

Description: Big Sandy Fuel Filing effective 3-1-13.

Filed Date: 1/31/13.

Accession Number: 20130131-5209.

Comments Due: 5 p.m. ET 2/12/13.

Docket Numbers: RP13-517-000.

Applicants: Texas Eastern Transmission, LP.

Description: ConocoPhillips 2-1-2013 Negotiated Rate to be effective 2/1/2013.

Filed Date: 1/31/13.

Accession Number: 20130131-5220.

Comments Due: 5 p.m. ET 2/12/13.

Docket Numbers: RP13-518-000.

Applicants: Central New York Oil and Gas, L.L.C.

Description: Central New York Oil and Gas Company, LLC—Restoration of Accepted Tari—Clone to be effective 12/1/2012.

Filed Date: 1/31/13.

Accession Number: 20130131-5257.

Comments Due: 5 p.m. ET 2/12/13.

Docket Numbers: RP13-519-000.

Applicants: Gas Transmission Northwest LLC.

Description: Gas Transmission Northwest LLC Annual Report on Deferred Revenue Recovery Mechanism and Revenue Reconciliation for the Medford Lateral.

Filed Date: 1/31/13.

Accession Number: 20130131-5280.

Comments Due: 5 p.m. ET 2/12/13.

Docket Numbers: RP13-520-000.

Applicants: Great Lakes Gas Transmission Limited Par.

Description: Michigan Consolidated FT Agmts to be effective 3/4/2013.

Filed Date: 1/31/13.

Accession Number: 20130131-5289.

Comments Due: 5 p.m. ET 2/12/13.

Docket Numbers: RP13-521-000.

Applicants: ANR Pipeline Company.

Description: 16 Non-Conforming Agreements to be effective 3/4/2013.

Filed Date: 1/31/13.

Accession Number: 20130131-5330.

Comments Due: 5 p.m. ET 2/12/13.

Docket Numbers: RP13-522-000.

Applicants: Dominion Transmission, Inc.

Description: DTI—January 31, 2013 Negotiated Rate Agreements to be effective 2/1/2013.

Filed Date: 1/31/13.

Accession Number: 20130131-5352.

Comments Due: 5 p.m. ET 2/12/13.

Docket Numbers: RP13-523-000.

Applicants: Equitrans, L.P.

Description: Revised Negotiated Rate Service Agreement—Rice Drilling B LLC to be effective 2/1/2013.

Filed Date: 2/1/13.

Accession Number: 20130201-5034.

Comments Due: 5 p.m. ET 2/13/13.

Docket Numbers: RP13-524-000.

Applicants: Algonquin Gas Transmission, LLC.

Description: Non-conforming Agreements Cleanup Filing—Feb 2013 to be effective 3/4/2013.

Filed Date: 2/1/13.

Accession Number: 20130201-5041.

Comments Due: 5 p.m. ET 2/13/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: February 1, 2013.
Nathaniel J. Davis, Sr.,
Deputy Secretary.

[FR Doc. 2013-03013 Filed 2-8-13; 8:45 am]

BILLING CODE 6717-01-P